DEPARTMENT OF THE INTERIOR

Bureau of Land Management

[L14400000/LLAZ920000/ET0000/AZA-38386]

Notice of Withdrawal Application and Opportunity for a Public Meeting for the Tonto National Forest/Town of Superior, Arizona

AGENCY: Bureau of Land Management, Interior.

ACTION: Notice.

SUMMARY: The United States Forest Service (USFS) has filed an application with the Bureau of Land Management (BLM) requesting that the Secretary of the Interior withdraw 276 acres of National Forest System (NFS) lands located within the Tonto National Forest from location and entry under the U. S. mining laws for a 20-year term, subject to valid existing rights. The purpose of the withdrawal requested is to protect the lands for a U.S. Congressionally-directed conveyance to the Town of Superior (Town), Pinal County, Arizona. Publication of this notice temporarily segregates the lands for up to 2 years, initiates a 90-day public comment period, and announces to the public an opportunity to request a public meeting on the withdrawal.

DATES: Comments and requests for a public meeting must be received by October 18, 2022.

ADDRESSES: All comments or requests for a public meeting should be sent to the BLM Arizona State Office, 1 North Central Avenue, Suite 800, Phoenix, AZ 85004; faxed to (602) 417-9452; or sent by email to BLM_AZ_Withdrawal_Comments@blm.gov. The BLM will not consider comments via telephone calls.

FOR FURTHER INFORMATION CONTACT: Michael Ouellett, Realty Specialist, BLM Arizona State Office, telephone (602) 417-9561, email at mouellett@blm.gov; or you may contact the BLM office at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The USFS requests the 20-year term withdrawal to protect the NFS lands from potential encumbrances that could affect the Town's ability to use the lands when purchased from the Federal Government. Section 3003 of the National Defense Authorization Act for Fiscal Year 2015 (NDAA) [Pub. L. 113-291 § 3003] requires the Secretary of Agriculture to convey the subject lands to the Town, upon request from the Town. The subject lands are located within the Tonto National Forest and within the Town's corporate limits, and include the 30-acre Fairview Cemetery, as well as parcels near the Superior Municipal Airport.

The following described NFS lands are the subject of the USFS's withdrawal application and are temporarily segregated for a period of up to 2 years from location and entry under the U. S. mining laws, subject to valid existing rights. The lands remain open to such uses as may be made on NFS lands and to leasing under the mineral and geothermal leasing laws:

Gila and Salt River Meridian, Arizona

T. 2 S., R. 12 E.,

Sec. 3, N½SW¼SW¼, N½SW¼SW¼SW¼, and N½SE¼SW¼SW¼;

Sec. 4, lots 3 and 4 excepting Lee Mill Site and Penny Mill Site of M.S. No. 4803, S½NW¼ excepting Harborlite Mill Sites 1A and 2A of M.S. No. 4860 and Lee Mill Site and Penny Mill Site of M.S. No. 4803;

Sec. 5, N½NE¼SE¼, NE¼NW¼SE¼, E½NW¼NW¼SE¼, E½SW¼NW¼NW¼SE¼, and E½NW¼NW¼NW¼SE¼;

Sec. 9, E½NW¼NE¼, E½NW¼NW¼NE¼, SW¼NW¼NE¼, NW¼NE¼NE¼NW¼, NW¼NE¼NW¼, W½SW¼NE¼NW¼ that portion lying N. of the N. boundary of H.E.S. No. 167, E½NW¼NW¼ that portion lying N. of the N. boundary of H.E.S. No. 167, E½NW¼NW¼NW¼, E½NW¼NW¼NW¼NW¼, E½SW¼NW¼NW¼NW¼, E½SW¼NW¼NW¼ that portion lying N. of the N. boundary of H.E.S. No. 167, E½NW¼SW¼NW¼NW¼ that portion lying N. of the N. boundary of H.E.S. No. 167.

The areas described aggregate 276 acres.

The use of a right-of-way, interagency agreement, or cooperative agreement would not provide adequate protection of the specified lands.

No additional water rights are needed to fulfill the purpose of this requested withdrawal.

There are no suitable alternative sites since the requested withdrawal area is the potential conveyance area specified by Public Law 113-291 § 3003.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the requested withdrawal. All interested persons who desire a public meeting for the purpose of being heard on the requested withdrawal must submit a written request to the BLM Arizona State Director no later than October 18, 2022. If the authorized officer determines that a public meeting will be held, a notice of the time and place will be published in the Federal Register and a local newspaper at least 30 days before the scheduled date of the meeting.

For a period until July 22, 2024 the lands will be segregated as specified above unless the application is denied or canceled.

This application will be processed in accordance with the regulations at 43 CFR 2310.3.

(Authority: 43 U.S.C. 1714(b)(1) and 43 CFR 2300)

Raymond Suazo,
State Director.

[FR Doc. 2022-15405 Filed 7-19-22; 8:45 am]

BILLING CODE 3411-15-P